DEPARTMENT OF ENERGY

Office of Fossil Energy; National Petroleum Council

AGENCY: Department of Energy.

ACTION: Notice of open meeting.

SUMMARY: This notice announces a meeting of the National Petroleum Council. Federal Advisory Committee Act (Pub. L. 92-463, 86 Stat. 770) requires notice of these meetings be announced in the Federal Register.

DATES: Friday, May 16, 2003, 9 a.m.

ADDRESSES: The St. Regis Hotel, Crystal Ballroom, 923 Sixteenth & K Streets, NW., Washington, DC.

FOR FURTHER INFORMATION CONTACT: Ms. Kristen Palasciano, U.S. Department of Energy, Office of Fossil Energy, Washington, DC 20585. Phone: 202/586-9768.

SUPPLEMENTARY INFORMATION: Purpose of the Committee: To provide advice, information, and recommendations to the Secretary of Energy on matters relating to oil and gas or the oil and gas industry.

Tentative Agenda

—Call to order and introductory remarks by William A. Wise, Chair of the NPC

—Remarks by the Honorable Spencer Abraham, Secretary of Energy (invited)

—Administrative matters

—New business

—Public comment (10-minute rule)

—Adjournment

Public Participation: The meeting is open to the public. The chairperson of the Council is empowered to conduct the meeting in a fashion that will facilitate the orderly conduct of business. Any member of the public who wishes to file a written statement with the Council will be permitted to do so, either before or after the meeting. Members of the public who wish to make oral statements pertaining to agenda items should contact Ms. Kristen Palasciano at the address or telephone number listed above. Requests must be received at least five days prior to the meeting and reasonable provision will be made to include the presentation on the agenda.

Transcripts: Available for public review and copying at the Public Reading Room, Room 1E-190, Forrestal Building, 1000 Independence Avenue, SW., Washington, DC, between 9 a.m. and 4 p.m., Monday through Friday, except Federal holidays.

Issued in Washington, DC, on February 28, 2003.
Rachel M. Samuel,
Deputy Advisory Committee, Management Officer.

[FR Doc. 03-5261 Filed 3-5-03; 8:45 am]

BILLING CODE 6450-01-P